DEPARTMENT OF ENERGY

Federal Energy Regulatory Commission

[Docket No. AD21-5-000]

Impact of Electric Vehicles on the Transmission System and Wholesale Electricity Markets

Notice Cancelling Roundtable Discussion

As announced in a notice issued in this proceeding on October 30, 2020, Notice of Roundtable Discussion, a roundtable discussion on electric vehicles was originally scheduled for December 3, 2020. Take notice that this event is cancelled. This notice is issued and published in accordance with 18 CFR 2.1 (2020).

Dated: November 12, 2020.
Nathaniel J. Davis, Sr.,
Deputy Secretary.

[FR Doc. 2020-25443 Filed 11-17-20; 8:45 am]

BILLING CODE 6717-01-P